DEPARTMENT OF HEALTH AND HUMAN SERVICES

National Institutes of Health

National Institute of Allergy and Infectious Diseases; Amended Notice of Meeting

Notice is hereby given of a change in the meeting of the National Institute of Allergy and Infectious Diseases Special Emphasis Panel NIAID Investigator Initiated Program Project Applications (P01 Clinical Trial Not Allowed) which was published in the Federal Register on October 28, 2022, FR Doc 2022-23540, 87 FR 65215.

Amendment to change meeting date and time from November 14, 2022, at 2:00 p.m. to 5:00 p.m. to November 15, 2022, at 1:00 p.m. to 4:00 p.m. The meeting is closed to the public.

Dated: November 1, 2022.
Tyeshia M. Roberson-Curtis,
Program Analyst, Office of Federal Advisory Committee Policy.

[FR Doc. 2022-24060 Filed 11-3-22; 8:45 am]

BILLING CODE 4140-01-P